DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 14, 2003.

Interested persons are invited to submit written comments regarding the subject matter of the investigations to the Director, Division of Trade Adjustment Assistance, at the address shown below, not later than February 14, 2003.

The petitions filed in this case are available for inspection at the Office of the Director, Division of Trade Adjustment Assistance, Employment and Training Administration, U.S. Department of Labor, Room C-5311, 200 Constitution Avenue, NW., Washington, DC 20210.

Signed at Washington, DC, this 17th day of January 2003.
Edward A. Tomchick,
Director, Division of Trade Adjustment Assistance.

Appendix
[Petitions instituted between 01/02/2003 and 01/10/2003]
TA-W | Subject firm (Petitioners) | Location | Date of institution | Date of petition
50,404 | Vernay Laboratories, Inc. (Comp) | Yellow Springs, OH | 01/02/2003 | 12/11/2002
50,405 | Dorr-Oliver Eimco USA (Comp) | Salt Lake City, UT | 01/02/2003 | 12/20/2002
50,406 | Walkers Auto Electric (Comp) | Vancouver, WA | 01/02/2003 | 12/09/2002
50,407 | Eaton, (Comp) | Everett, WA | 01/02/2003 | 12/23/2002
50,408 | Best Manufacturing (Comp) | Johnson City, TN | 01/02/2003 | 12/22/2002
50,409 | International Comfort Products (IBB) | Lewisburg, TN | 01/02/2003 | 12/05/2002
50,410 | Precision Diversified Ind., LLC (Wkrs) | Plymouth, MN | 01/02/2003 | 12/19/2002
50,411 | Holmes Group (The) (Comp) | Flowood, MS | 01/02/2003 | 12/11/2002
50,412 | Hayes Lemmerz International (Wkrs) | Bowling Green, KY | 01/02/2003 | 12/20/2002
50,413 | American Tack and Hardware (Comp) | Monsey, NY | 01/02/2003 | 12/05/2002
50,414 | Pacon Corporation (Wkrs) | Neenah, WI | 01/02/2003 | 12/20/2002
50,415 | Times Fiber Communication Inc. (USWA) | Chatham, VA | 01/02/2003 | 12/16/2002
50,416 | Sprague Industries (Comp) | Providence, RI | 01/02/2003 | 12/17/2002
50,417 | ABM (Comp) | Greenville, SC | 01/02/2003 | 12/09/2002
50,418 | Plastic World (Wkrs) | Wharton, NJ | 01/02/2003 | 12/17/2002
50,419 | Armstrong World Industries, Inc. (USWA) | Lancaster, PA | 01/02/2003 | 12/20/2002
50,420 | Waldo Engine Management, LLC (UAW) | Cass Ciry, MI | 01/02/2003 | 12/17/2002
50,421 | Alpine Molding, Inc. (Wkrs) | Gaylord, MI | 01/02/2003 | 12/20/2002
50,422 | Altx, Inc. (USWA) | Watervaliet, NY | 01/02/2003 | 12/30/2002
50,423 | L.A. Darling Co. (AR) | Pocahontas, AR | 01/02/2003 | 12/30/2002
50,424 | Wolverine Worldwide Inc. (MI) | Rockford, MI | 01/02/2003 | 12/11/2002
50,425 | Willing B. Wire (NJ) | Willingboro, NJ | 01/02/2003 | 12/11/2002
50,426 | B.I. Transportation Inc. (Comp) | Burlington, NC | 01/02/2003 | 12/27/2002
50,427 | Boxboard Packaging Inc. (Wkrs) | Norwalk, OH | 01/02/2003 | 12/18/2002
50,428 | South Bend Acquisition Corporation (Comp) | South Bend, IN | 01/02/2003 | 12/26/2002
50,429 | Universal Electronics, Inc. (Comp) | Menomonee Falls, WI | 01/02/2003 | 12/27/2002
50,430 | L'Art De La Mode, Inc. (NJ) | Carlstadt, NJ | 01/02/2003 | 12/27/2002
50,431 | General Electric (Wkrs) | Bucyrus, OH | 01/02/2003 | 12/26/2002
50,432 | Angus Consulting Management (Wkrs) | Columbus, OH | 01/03/2003 | 12/19/2002
50,433 | Fun Tees, Inc. (Wkrs) | Andrews, SC | 01/03/2003 | 12/20/2002
50,434 | Sanmina-SCI (Comp) | Watsonville, CA | 01/03/2003 | 12/19/2002
50,435 | Foster Wheeler Energy Corporation (Comp) | Buffalo, NY | 01/03/2003 | 12/20/2002
50,436 | Amcor White Cap (USWA) | Chicago, IL | 01/03/2003 | 12/17/2002
50,437 | Reliant Bolt, Inc. (USWA) | Bedford Park, IL | 01/03/2003 | 12/17/2002
50,438 | Computer Sciences Corporation (Wkrs) | Somerset, NJ | 01/03/2003 | 12/21/2002
50,439 | Tresco Tool, Inc. (Comp) | Guys Mills, PA | 01/03/2003 | 12/23/2002
50,440 | Tranex (Comp) | Colo. Springs, CO | 01/03/2003 | 12/19/2002
50,441 | Slipstream (Comp) | Dillingham, AK | 01/03/2003 | 12/19/2002
50,442 | Dynamik Tool and Die (Wkrs) | Dandridge, TN | 01/03/2003 | 12/06/2002
50,443 | Flexcel (Wkrs) | Danville, KY | 01/03/2003 | 12/23/2002
50,444 | Tyson Foods (Comp) | Stilwell, OK | 01/03/2003 | 12/16/2002
50,445 | Coe Manufacturing (USWA) | Painesville, OH | 01/03/2003 | 12/18/2002
50,446 | Ericsson, Inc. (Comp) | Woodbury, NY | 01/03/2003 | 12/18/2002
50,447 | Fulton Bellows and Components (Comp) | Knoxville, TN | 01/03/2003 | 12/16/2002
50,448 | Universal Instruments (Wkrs) | Binghamton, NY | 01/03/2003 | 12/17/2002
50,449 | PTC/Alliance (USWA) | Darlington, PA | 01/03/2003 | 12/26/2002
50,450 | A.M. Promotions, Inc. (Wkrs) | Ebensburg, PA | 01/03/2003 | 12/19/2002
50,451 | Berendsen Fluid Power (Wkrs) | Houston, TX | 01/03/2003 | 12/16/2002
50,452 | Spectrum Field Services (Wkrs) | Tulsa, OK | 01/03/2003 | 12/01/2002
50,453 | Atlas Copco Wagner, Inc. (IBT) | Portland, OR | 01/03/2003 | 12/23/2002
50,454 | WI Pattern Co. (WI) | Racine, WI | 01/03/2003 | 12/18/2002
50,455 | Anvil Knitwear, Inc. (Comp) | Kings Mountain, NC | 01/03/2003 | 12/05/2002
50,456 | J and A Industrial Sheet Metal (OR) | Bend, OR | 01/03/2003 | 12/23/2002
50,457 | TLC Polyform (Wkrs) | Beaverton, MI | 01/03/2003 | 12/23/2002
50,458 | Smurfit-Stone Container Corporation (Comp) | Spartanburg, SC | 01/03/2003 | 12/23/2002
50,459 | Suss Microtec, Inc. (VT) | Waterbury Cente, VT | 01/03/2003 | 12/23/2002
50,460 | VF Jeanswear Limited Partnership (Comp) | Luray, VA | 01/03/2003 | 11/06/2002
50,461 | VF Jeanswear Limited Partnership (Comp) | Lebanon, MO | 01/03/2003 | 11/06/2002
50,462 | Micro Component Technology (Comp) | St. Paul, MN | 01/06/2003 | 12/18/2002
50,463 | McCormick Enterprises, Inc. (Comp) | Delton, MI | 01/06/2003 | 12/04/2002
50,464 | Central Chair Company (Comp) | Asheboro, NC | 01/06/2003 | 12/19/2002
50,465 | J B Tool and Machine, Inc. (Wkrs) | Wapakoneta, OH | 01/06/2003 | 12/31/2002
50,466 | Makita Corporation of America (Wkrs) | Buford, GA | 01/06/2003 | 12/26/2002
50,467 | F/V K2 (Comp) | Homer, AK | 01/06/2003 | 12/28/2002
50,468 | Textron (PACE) | Lincoln, NE | 01/06/2003 | 12/30/2002
50,469 | Supra Telcom (Wkrs) | Quincy, IL | 01/06/2003 | 12/20/2002
50,470 | Hitachi High Technologies America, Inc. (Comp) | San Jose, CA | 01/06/2003 | 12/19/2002
50,471 | MGM Transport Corp. (NJ) | Totowa, NJ | 01/06/2003 | 12/31/2002
50,472 | Sharon Tube Company (USWA) | Sharon, PA | 01/06/2003 | 12/31/2002
50,473 | Georgia Headwear and Apparel (Comp) | Waycross, GA | 01/06/2003 | 12/23/2002
50,474 | Store Kraft Manufacturing Company (AR) | Greenwood, AR | 01/06/2003 | 01/02/2003
50,475 | Dynamatic Corporation (WI) | Kenosha, WI | 01/06/2003 | 12/23/2002
50,476 | Honeywell International (MN) | Coon Rapids, MN | 01/06/2003 | 12/30/2002
50,477 | Fleming Companies, Inc. (Wkrs) | Altoona, PA | 01/06/2003 | 12/24/2002
50,478 | Maysteel (Comp) | Mayville, WI | 01/06/2003 | 12/27/2002
50,479 | Eastman Kodak Company (NY) | Rochester, NY | 01/06/2003 | 12/20/2002
50,480 | Miller Bag Company (Comp) | Minneapolis, MN | 01/06/2003 | 12/23/2002
50,481 | Nautilus HPS, Inc. (Comp) | Independence, VA | 01/06/2003 | 12/17/2002
50,482 | Black and Decker (Comp) | Easton, MD | 01/06/2003 | 11/15/2002
50,483 | CNH (UAW) | Burlington, IA | 01/06/2003 | 01/02/2003
50,484 | Hewlett Packard Company (Wkrs) | Vancouver, WA | 01/06/2003 | 12/30/2002
50,485 | Oshkosh B'Gosh Inc. (Comp) | Medley, FL | 01/06/2003 | 12/26/2002
50,486 | Electronic Data Systems Corp (Wkrs) | Fairborn, OH | 01/06/2003 | 12/27/2002
50,487 | NexPak (Wkrs) | El Dorado Hills, CA | 01/06/2003 | 12/09/2002
50,488 | Sanmina—SCI (Comp) | Lewisburg, PA | 01/06/2003 | 01/03/2003
50,489 | Corning, Inc. (Comp) | Painted Post, NY | 01/06/2003 | 12/20/2002
50,490 | CCL Container (Wkrs) | Harrisonburg, VA | 01/06/2003 | 01/02/2003
50,491 | KNS (Comp) | Austin, TX | 01/06/2003 | 12/20/2002
50,492 | Adventure Travel (MI) | Iron Mountain, MI | 01/06/2003 | 01/01/2003
50,493 | Moltech Power Systems (Comp) | Gainesville, FL | 01/06/2003 | 01/03/2003
50,494 | Manufacturers Services Limited (MN) | Arden Hills, MN | 01/06/2003 | 01/03/2003
50,495 | Massillon Stainless, Inc. (USWA) | Massillon, OH | 01/06/2003 | 01/03/2003
50,496 | US Manufacturing Corp. (MI) | Fraser, MI | 01/06/2003 | 01/06/2002
50,497 | C-Cor.Net (Wkrs) | Manlius, NY | 01/07/2003 | 01/02/2003
50,498 | Ram Tool, Inc. (Wkrs) | Conneaut Lake, PA | 01/07/2003 | 01/03/2003
50,499 | Marion County Shirt Company (AR) | Marshall, AR | 01/07/2003 | 01/06/2003
50,500 | Creative Die Mold (Wkrs) | Glendale Hgts., IL | 01/07/2003 | 01/03/2003
50,501 | HG Winter and Sons, Inc. (Comp) | Kingfield, ME | 01/07/2003 | 01/03/2003
50,502 | Cable Warehouse (CO) | Denver, CO | 01/07/2003 | 12/02/2002
50,503 | F/V Kirsten Marie (Comp) | Port Heiden, AK | 01/07/2003 | 11/23/2002
50,504 | Hamilton Sundstrand (Comp) | Denver, CO | 01/07/2003 | 12/02/2002
50,505 | Newport Steel Corporation (USWA) | Newport, KY | 01/07/2003 | 12/28/2002
50,506 | Con Met (Wkrs) | Clackamas, OR | 01/07/2003 | 12/10/2002
50,507 | Nortel Networks (Comp) | RTP, NC | 01/07/2003 | 12/16/2002
50,508 | Nortel Networks (Wkrs) | Richardson, TX | 01/07/2003 | 01/06/2003
50,509 | Sensient Colors, Inc. (USWA) | Birdsboro, PA | 01/07/2003 | 12/20/2002
50,510 | Goodrich Corporation (GMP) | Spencer, WV | 01/07/2003 | 12/30/2002
50,511 | Johns Manville (USWA) | Vienna, WV | 01/07/2003 | 12/31/2002
50,512 | F/V Millie Jo (Comp) | Chignik Lagoon, AK | 01/07/2003 | 01/04/2002
50,513 | Sherwood Harsco Corporation (Comp) | Washington, PA | 01/07/2003 | 01/06/2003
50,514 | General Electric Co. (Comp) | Mebane, NC | 01/07/2003 | 01/07/2002
50,515 | PPC Macomb, Inc. (Comp) | Macomb, IL | 01/07/2003 | 01/07/2003
50,516 | Gina's Inc. (Wkrs) | Brooklyn, NY | 01/07/2003 | 12/11/2002
50,517 | Carl Zeiss IMT Corporation (Wkrs) | Minneapolis, MN | 01/08/2003 | 01/06/2003
50,518 | Bangor and Aroostook Railroad (IBMWE) | Hermon, ME | 01/08/2003 | 01/07/2003
50,519 | Tyson Foods (Comp) | Jacksonville, FL | 01/08/2003 | 01/07/2002
50,520 | Omnitronics, LLC (Comp) | Conneaut, OH | 01/08/2003 | 12/29/2002
50,521 | Gorecki Manufacturing, Inc. (Wkrs) | Milaca, MN | 01/08/2003 | 01/03/2003
50,522 | Louisiana Pacific Corporation (Comp) | Saratoga, WY | 01/08/2003 | 12/27/2002
50,523 | Computer Sciences Corporation (Wkrs) | Newark, DE | 01/08/2003 | 01/07/2003
50,524 | F/V Jessica (Comp) | Anchorage, AK | 01/08/2003 | 01/07/2003
50,525 | Cincinnati Machine (Wkrs) | Cincinnati, OH | 01/08/2003 | 01/07/2003
50,526 | Sanmina-SCI (Comp) | West Liberty, KY | 01/08/2003 | 01/03/2003
50,527 | Generation 2 Worldwide, LLC (Comp) | Dothan, AL | 01/09/2003 | 01/08/2003
50,528 | Celestica Corporation (Wkrs) | Rochester, MN | 01/09/2003 | 01/07/2003
50,529 | Enterasys Networks, Inc. (Wkrs) | Salt Lake City, UT | 01/09/2003 | 01/08/2003
50,530 | PHB Tool and Die (Comp) | Girard, PA | 01/09/2003 | 01/08/2003
50,531 | Hankins Lumber Company (MS) | Grenada, MS | 01/09/2003 | 01/08/2003
50,532 | Western Digital Corporation (Wkrs) | Rochester, MN | 01/09/2003 | 01/08/2003
50,533 | Mastercraft Fabrics, LLC (Comp) | Spindale, NC | 01/09/2003 | 01/02/2003
50,534 | Corning Cable Systems, LLC (Wkrs) | Hickory, NC | 01/09/2003 | 11/25/2003
50,535 | North American Container (WI) | Fond Du Lac, WI | 01/09/2003 | 01/08/2003
50,536 | Lacers Sport, Inc. (Wkrs) | Opa Locka, FL | 01/10/2003 | 12/31/2002
50,537 | Brillion Iron Works, Inc. (Comp) | Brillion, WI | 01/10/2003 | 01/07/2003
50,538 | Dana Corporation (UAW) | Richmond, IN | 01/10/2003 | 01/08/2003
50,539 | Arden Companies (Wkrs) | Kendallville, IN | 01/10/2003 | 01/07/2003
50,540 | Gaylord Container Corp. (AWPPW) | Antioch, CA | 01/10/2003 | 12/03/2002
50,541 | Prudential Insurance Co. (MN) | Plymouth, MN | 01/10/2003 | 01/09/2003

[FR Doc. 03-2543 Filed 2-3-03; 8:45 am]

BILLING CODE 4510-30-M